DEPARTMENT OF ENERGY

Federal Energy Regulatory Commission

[Docket No. ER06-615-002]

California Independent System Operator Corporation; Notice of Technical Conference

October 24, 2006.

Take notice that the Federal Energy Regulatory Commission will host a technical conference on Thursday and Friday, December 14-15, 2006 to address issues related to the California Independent System Operator Corporation's (CAISO) electric tariff, which reflects the Market Redesign and Technology Upgrade (MRTU). The conference will be held at the Biltmore Hotel at 2400 East Missouri in Phoenix, Arizona. The conference is scheduled for Thursday, December 14 from 1 to 5 p.m. and Friday, December 15, from 8:30 a.m. to 12:30 p.m. Mountain Standard Time. Commissioners will attend, and the conference is open to the public.

The purpose of the technical conference is to assist the CAISO and parties outside the CAISO Control Area to identify alleged seams issues that require resolution, in accordance with the directive of the Commission's September 21, 2006 order conditionally accepting the CAISO's proposed MRTU electric tariff.¹

¹ See Cal. Indep. Sys. Operator Corp., 116 FERC ¶ 61,274 at P 490 (2006).

The technical conference will be a forum for participants to identify specific alleged seams issues they will face upon MRTU implementation and to offer solutions to remedy those seams. Participants should be prepared to discuss technical and operational issues. Participants are encouraged to file comments with the Commission on or before November 15, 2006 that identify specific alleged operational seams issues (particularly quantitative examples) and possible solutions for discussion at the conference. These comments should be filed in Docket No. ER06-615-002.

The Commission is now soliciting nominations for speakers at the technical conference. Persons wishing to nominate themselves as speakers should do so using this electronic link: https://www.ferc.gov/whats-new/registration/caiso-12-14-speaker-form.asp. Such nominations must be made before the close of business, Thursday, November 9, 2006, so that an agenda for the technical conference can be drafted and published.

All interested persons may attend the conference, and registration is not a strict requirement. However, in-person attendees are encouraged to register on-line at https://www.ferc.gov/whats-new/registration/caiso-12-14-form.asp by close of business on Thursday, November 30, 2006.

For more information about the conference, please contact Sarah McKinley at 202-502-8004, sarah.mckinley@ferc.gov.

Magalie R. Salas,
Secretary.

[FR Doc. E6-18136 Filed 10-27-06; 8:45 am]

BILLING CODE 6717-01-P